DEPARTMENT OF ENERGY

Federal Energy Regulatory Commission

Combined Notice of Filings #1

Take notice that the Commission received the following electric rate filings:

Docket Numbers: ER10-2759-001, ER11-27-001, ER11-3320-001, ER10-2744-001, ER10-2740-001, ER11-3321-001.

Applicants: Bridgeport Energy, LLC, Riverside Generating Company, L.L.C., Rocky Road Power, LLC, LSP Safe Harbor Holdings, LLC, LSP University Park, LLC, WALLINGFORD ENERGY LLC.

Description: NOTIFICATION OF CHANGE IN STATUS of Bridgeport Energy, LLC, et al.

Filed Date: 04/06/2011.

Accession Number: 20110406-5151.

Comment Date: 5 p.m. Eastern Time on Wednesday, April 27, 2011.

Docket Numbers: ER11-3317-000.

Applicants: South Carolina Electric & Gas Company.

Description: South Carolina Electric & Gas Company submits tariff filing per 35: Section 23.1 to be effective 4/7/2011.

Filed Date: 04/07/2011.

Accession Number: 20110407-5019.

Comment Date: 5 p.m. Eastern Time on Thursday, April 28, 2011.

Docket Numbers: ER11-3318-000.

Applicants: Woodway Energy Partners, LLC.

Description: Woodway Energy Partners, LLC submits tariff filing per 35.12: Petition for Acceptance of Initial Tariff, Waivers, and Blanket Authority to be effective 6/7/2011.

Filed Date: 04/07/2011.

Accession Number: 20110407-5041.

Comment Date: 5 p.m. Eastern Time on Thursday, April 28, 2011.

Docket Numbers: ER11-3319-000.

Applicants: Troy Energy, LLC.

Description: Troy Energy, LLC's Notice of Cancellation of Reactive Power Rate Schedule.

Filed Date: 04/07/2011.

Accession Number: 20110407-5088.

Comment Date: 5 p.m. Eastern Time on Thursday, April 28, 2011.

Docket Numbers: ER11-3320-000.

Applicants: PPL University Park, LLC.

Description: PPL University Park, LLC submits tariff filing per 35.13(a)(2)(iii): LSP University Park, LLC MBR Notice of Succession to be effective 3/9/2011.

Filed Date: 04/07/2011.

Accession Number: 20110407-5114.

Comment Date: 5 p.m. Eastern Time on Thursday, April 28, 2011.

Docket Numbers: ER11-3321-000.

Applicants: PPL Wallingford Energy LLC.

Description: PPL Wallingford Energy LLC submits tariff filing per 35.13(a)(2)(iii): LSP Wallingford, LLC MBR Notice of Succession to be effective 3/9/2011.

Filed Date: 04/07/2011.

Accession Number: 20110407-5115.

Comment Date: 5 p.m. Eastern Time on Thursday, April 28, 2011.

Docket Numbers: ER11-3322-000.

Applicants: PJM Interconnection, L.L.C.

Description: PJM Interconnection, L.L.C. submits tariff filing per 35.13(a)(2)(iii): Revisions to the Tariff and OA re Emerg. Load Response Program “Reporting” to be effective 6/1/2011.

Filed Date: 04/07/2011.

Accession Number: 20110407-5126.

Comment Date: 5 p.m. Eastern Time on Thursday, April 28, 2011.

Docket Numbers: ER11-3323-000.

Applicants: PPL University Park, LLC.

Description: PPL University Park, LLC submits tariff filing per 35.13(a)(2)(iii): LSP University Park, LLC Reactive Rate Schedule Notice of Succession to be effective 3/9/2011.

Filed Date: 04/07/2011.

Accession Number: 20110407-5131.

Comment Date: 5 p.m. Eastern Time on Thursday, April 28, 2011.

Docket Numbers: ER11-3324-000.

Applicants: Otter Tail Power Company.

Description: Notice of Cancellation of Service Agreement of Otter Tail Power Company.

Filed Date: 04/08/2011.

Accession Number: 20110408-5106.

Comment Date: 5 p.m. Eastern Time on Friday, April 29, 2011.

Docket Numbers: ER97-324-023, ER97-3834-030, ER00-1816-011, ER05-1469-008, ER07-415-008, ER01-2317-013, ER08-1418-006, ER10-663-005, ER09-1061-005.

Applicants: DTE Energy Trading, Inc., The Detroit Edison Company, DTE Stoneman, LLC, DTE Pontiac North, LLC, DTE East China, LLC, Metro Energy, L.L.C., DTE Energy Supply, Inc., Woodland Biomass Power Ltd., DTE River Rouge No. 1, L.L.C.

Description: Notice of Change in Status of The Detroit Edison Company et al.

Filed Date: 04/07/2011.

Accession Number: 20110407-5132.

Comment Date: 5 p.m. Eastern Time on Thursday, April 28, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 8, 2011.
Nathaniel J. Davis, Sr.,
Deputy Secretary.

[FR Doc. 2011-9303 Filed 4-15-11; 8:45 am]

BILLING CODE 6717-01-P